AGENCY FOR INTERNATIONAL DEVELOPMENT

22 CFR Part 215

RIN 0412-AA61

Privacy Act of 1974, Implementation of Exemptions

AGENCY: United States Agency for International Development.

ACTION: Final rule; delay of effective date and addition of comment period.

SUMMARY: This document delays the effective date by 60 days and provides a 30-day public comment period to run concurrently for the final rule exempting portions of the Partner Vetting System from one or more provisions of the Privacy Act, as published in the Federal Register on January 2, 2009.

DATES: The effective date for the final rule published on January 2, 2009 (74 FR 9), is delayed until April 3, 2009. Written comments must be received on or before March 4, 2009.

ADDRESSES: Written comments may be submitted electronically through the Federal eRulemaking Portal: http://www.regulations.gov. Follow the instructions on the website for submitting comments.

Written comments may also be submitted by mail to Rhonda Turnbow, Deputy Chief Privacy Officer, United States Agency for International Development, 1300 Pennsylvania Avenue, NW., Office 2.12-003, Washington, DC 20523-2120.

FOR FURTHER INFORMATION CONTACT: For general questions, please contact Jeff Denale, Chief, Counterterrorism and Information Security Division, Office of Security, United States Agency for International Development, Ronald Reagan Building, 1300 Pennsylvania Avenue, NW., Washington, DC 20523.

SUPPLEMENTARY INFORMATION: The United States Agency for International Development published a Final Rule in the Federal Register on January 2, 2009 (74 FR 9), FR Doc. E8-31131. Pursuant to a January 20, 2009 White House Memorandum on regulatory review, agencies are requested to consider extending for 60 days the effective date of regulations that have been published in the Federal Register but not yet taken effect, for the purpose of reviewing questions of law and policy raised by those regulations. Where such an extension is made, agencies are requested to immediately reopen the notice-and-comment period for 30 days to allow interested parties to provide comments about issues of law and policy raised by those regulations. As a result, USAID has delayed the effective date of the final rule from February 2, 2009 to April 3, 2009. USAID has also opened a 30-day public comment period.

Dated: January 28, 2009.
Randy T. Streufert,
Director, Office of Security.

[FR Doc. E9-2220 Filed 1-30-09; 8:45 am]

BILLING CODE 6116-02-P